GENERAL SERVICES ADMINISTRATION

Public Building Service; Notice of Availability; Environmental Assessment and Finding of No Significant Impact

AGENCY: Public Buildings Service, General Services Administration.

ACTION: Notice of availabilty.

SUMMARY: The General Services Administration is publishing a Final Environmental Assessment (EA) and Finding of No Significant Impact (FONSI) for the proposed reconfiguration and expansion of the Nogales Mariposa land port of entry in Nogales, Arizona.

FOR FURTHER INFORMATION CONTACT: Greg Smith, Regional Environmental Quality Advisor (REQA), US General Services Administration, Portfolio Management Division, 880 Front St., Room 4236, San Diego, CA 92101, phone 619-557-6169, or e-mail: Greg.Smith@gsa.gov.

SUPPLEMENTARY INFORMATION: The Mariposa U.S. Border Station at Nogales, Arizona is a full-service land port of entry (LPOE) where the Federal Government inspects privately-owned vehicles (POV), pedestrians, and commercial vehicles seeking to enter the United States. Immediately to the south is the Mexican City of Nogales, Sonora.

Since the existing LPOE was constructed, the population of the region has grown, inspection technology has significantly improved, law enforcement activities have increased, and trade policies have changed dramatically. Consequently, the existing facilities are overloaded and in need of repair, equipment upgrades, and expansion. A larger, more efficient LPOE is needed to expedite trade and tourism while meeting the security needs of the U.S. Customs and Border Protection Division.

Details of the Proposed Action are described in a NEPA document entitled Nogales Mariposa US Land Port of Entry Final Environmental Assessment (Aztec Engineering, June 2009). The Draft EA was published and circulated among responsible government agencies and the public for a period of no less than 45 days. A public meeting on the Draft EA was held on Tuesday, September 12, 2006. Comments received during the meeting and circulation period were considered by GSA in this final decision. The action proposed includes mitigation measures to reduce impacts identified in the EA to a level that is less than significant.

Finding

Pursuant to the provision of GSA Order ADM 1095.1F, the PBS NEPA Desk Guide, and the regulations issued by the Council of Environmental Quality, (40 CFR parts 1500 to 1508), this notice advises the public of our finding that the action described above will not significantly affect the quality of the human environment.

Basis for Finding

The environmental impacts of constructing and operating the proposed facilities were considered in the Final EA and FONSI pursuant to the National Environmental Policy Act (NEPA) and the Council on Environmental Quality (CEQ) regulations implementing NEPA. The build alternative will result in temporary construction impacts involving the air quality (dust) and noise, a minor loss of soil and vegetation, and potential stormwater pollution runoff from the site. To mitigate potential long-term impacts, GSA will implement the measures that are discussed in the Environmental Assessment and FONSI.

The Final EA and FONSI are available for review at the San Luis Public Library, 731 N 1st Ave., San Luis, AZ 85349. The Final EA and FONSI can also be viewed on the GSA Web site at http://www.gsa.gov/nepa. Click on NEPA Library → Public Documents.

The Finding of No Significant Impact will become final thirty (30) days after the publication of this notice, provided that no information leading to a contrary finding is received or comes to light during this period.

Dated: June 17, 2009.
Abdee Gharavi,
Portfolio Management Division Director, 9PT, GSA Region 9.

[FR Doc. E9-14781 Filed 6-23-09; 8:45 am]

BILLING CODE 6820-YF-P